NUCLEAR REGULATORY COMMISSION

[NRC-2015-0288]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 8, 2015, to December 21, 2015. The last biweekly notice was published on December 22, 2015.

DATES: Comments must be filed by February 4, 2016. A request for a hearing must be filed March 7, 2016.

ADDRESSES: You may submit comments by any of the following methods (unless this document describes a different method for submitting comments on a specific subject):

• Federal Rulemaking Web site: Go to http://www.regulations.gov and search for Docket ID NRC-2015-0288. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Mable Henderson, Office of Nuclear Reactor Regulation, U.S. Nuclear Regulatory Commission, Washington, DC 20555-0001; telephone: 301-415-3760, email: Mable.Henderson@nrc.gov.

SUPPLEMENTARY INFORMATION:

I. Obtaining Information and Submitting Comments

A. Obtaining Information

Please refer to Docket ID NRC-2015-0288 when contacting the NRC about the availability of information for this action. You may obtain publicly-available information related to this action by any of the following methods:

• Federal Rulemaking Web site: Go to http://www.regulations.gov and search for Docket ID NRC-2015-0288.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section of this document.

• NRC's PDR: You may examine and purchase copies of public documents at the NRC's PDR, Room O1-F21, One White Flint North, 11555 Rockville Pike, Rockville, Maryland 20852.

B. Submitting Comments

Please include Docket ID NRC-2015-0288, facility name, unit number(s), application date, and subject in your comment submission.

The NRC cautions you not to include identifying or contact information that you do not want to be publicly disclosed in your comment submission. The NRC posts all comment submissions at http://www.regulations.gov, as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by March 7, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by March 7, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

DTE Electric Company, Docket No. 50-341, Fermi 2, Monroe County, Michigan

Date of amendment request: September 24, 2015. A publicly-available version is in ADAMS under Accession No. ML15268A149.

Description of amendment request: The amendment would modify technical specification requirements to address Generic Letter 2008-01, “Managing Gas Accumulation in Emergency Core Cooling, Decay Heat Removal, and Containment Spray Systems,” as described in TSTF-523, Revision 2, “Generic Letter 2008-01, Managing Gas Accumulation.”

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds Surveillance Requirement(s) (SRs) that require verification that the Emergency Core Cooling System (ECCS), the Residual Heat Removal (RHR) System, and the Reactor Core Isolation Cooling (RCIC) System are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, the RHR System, and the RCIC System are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, the RHR System, and the RCIC System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226.

NRC Branch Chief: David L. Pelton.

Duke Energy Progress Inc., Docket No. 50-400, Shearon Harris Nuclear Power Plant (HNP), Unit 1, New Hill, North Carolina

Date of amendment request: October 29, 2015. A publicly-available version is in ADAMS under Accession No. ML15302A542.

Description of amendment request: The amendment would revise several HNP, Unit 1, Technical Specifications (TSs) to allow the `A' Emergency Service Water (ESW) pump to be inoperable for 14 days to allow for the replacement of the `A' Train ESW pump. The proposed license amendment request (LAR) would be applicable on a one-time basis.

Basis for proposed no significant hazards consideration determination: As required by 10 CFR 50.91(a), the licensee has provided its analysis of the issue of no significant hazards consideration, which is presented below:

1. Does the proposed amendment involve a significant increase in the probability or consequences of an accident previously evaluated?

The `B' Train ESW supply and supported equipment will remain fully operable during the 14 day completion time. The `A' ESW pump and supported equipment function as accident mitigators. Removing the `A' Train ESW pump from service for a limited period of time does not affect any accident initiator and therefore cannot change the probability of an accident. The proposed changes and the `A' Train ESW pump replacement activity have been evaluated to assess their impact on the systems affected and upon the design basis safety functions.

The activities covered by this LAR also include defense-in-depth actions. Weather patterns will be monitored and this activity schedule will be adjusted if tornado/high wind conditions become imminent.

In addition, completing the lineups required by the operations work procedure (OWP) for the Service Water (SW) system, OWP-SW, “Service Water,” which is necessary when an ESW pump is inoperable, provides defense in depth for prevention of core damage and containment failure. The lineup steps for time periods when the `A' ESW pump is inoperable include the lifting of leads to disable the Safety Injection (SI) close signal to service water valve `1SW-39' and service water valve `SW-276.' This allows the breakers to be maintained on and allows expeditious isolation capability in the event of a SW leak in the Reactor Auxiliary Building. This lineup also defeats the SI signal to service water valve `SW-276' to maintain it open. As long as service water valves `1SW-274' and `1SW-40' are operable, the `B' Train ESW header is isolable, and operable. The simplified flow diagrams provided in Attachment 5 (enclosed in original document) illustrate the flow paths affected by the valves discussed above. Quantitative measures and qualitative measures will be taken during the planned ESW pump replacement, which are identified in Attachment 7 (enclosed in original document) as Regulatory Commitments.

There will be no effect on the analysis of any accident or the progression of the accident since the operable ESW `B' train is capable of serving 100 percent of all the required heat loads. As such, there is no impact on consequence mitigation for any transient or accident.

Therefore, the proposed change does not involve a significant increase in the probability or consequences of an accident previously evaluated.

2. Does the proposed amendment create the possibility of a new or different kind of accident from any accident previously evaluated?

The proposed amendment is a one-time extension of the required completion times from 72 hours for the Charging Pumps, Emergency Core Cooling Systems Subsystems, Containment Spray System, Spray Additive System, Containment Cooling System, Auxiliary Feedwater System, Component Cooling Water System, ESW System, Essential Services Chilled Water System, and AC [Alternating Current] Sources systems to 336 hours. Additionally, proposed amendment is a one-time extension of the required completion times from 7 days for the Control Room Emergency Filtration System and the Reactor Auxiliary Building Emergency Exhaust Systems to 336 hours. The requested change does not involve the addition or removal of any plant system, structure, or component.

The proposed temporary TS changes do not affect the basic design, operation, or function of any of the systems associated with the TS impacted by the amendment. Implementation of the proposed amendment will not create the possibility of a new or different kind of accident from that previously evaluated.

HNP intends to isolate and replace the `A' ESW pump. During the period in which the `A' Train ESW pump is not available, the (NSW System will remain available to supply the `A' Train ESW loads and the `B' Train ESW Train will be operable.

Throughout the pump replacement project, compensatory measures will be in place to provide additional assurance that the affected systems will continue to be capable of performing their intended safety functions.

In conclusion, this proposed LAR does not impact any plant systems that are accident initiators and does not impact any safety analysis.

Therefore, the proposed changes do not create the possibility of a new or different kind of accident from any accident previously evaluated.

3. Does the proposed amendment involve a significant reduction in the margin of safety?

Margin of safety is related to the confidence in the ability of the fission product barriers to perform their design functions during and following an accident situation. These barriers include the fuel cladding, the reactor coolant system, and the containment system. The performance of the fuel cladding, reactor coolant, and containment systems will not be impacted by the proposed LAR.

Additionally, the proposed amendment does not involve a change in the operation of the plant. The activity only extends the amount of time the `A' Train ESW system is allowed to be inoperable for the replacement of the `A' ESW pump to improve design margin.

The estimated incremental conditional core damage probability (ICCDP) during the 14 day completion time extension is much less than the limits presented in Regulatory Guide 1.177. Therefore, it is concluded that the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tryon Street, Mail Code DEC45A, Charlotte, NC 28202.

NRC Branch Chief: Benjamin G. Beasley.

Exelon Generation Company, LLC, Docket Nos. 50-317 and 50-318, Calvert Cliffs Nuclear Power Plant, Unit Nos. 1 and 2, Calvert County, Maryland

Date of amendment request: November 5, 2015. A publicly-available version is in ADAMS under Accession No. ML15310A064.

Description of amendments request: The amendments would revise the Calvert Cliffs Technical Specifications (TSs) to relocate certain Surveillance Requirements Frequencies to the previously approved Surveillance Frequency Control Program.

Basis for proposed no significant hazards consideration determination: As required by 10 CFR 50.91(a), the licensee has provided its analysis of the issue of no significant hazards consideration, which is presented below, with NRC staff revisions provided in [brackets]:

1. Does the proposed amendment involve a significant increase in the probability or consequences of any accident previously evaluated?

Response: No.

The proposed License Amendment Request is an administrative change. The proposed change relocates the specified [f]requencies for periodic Surveillance Requirements [SRs] to licensee control under the SFCP. Surveillance Frequencies (SF) are not an initiator to any accident previously evaluated. As a result, the probability of any accident previously evaluated is not significantly increased. The systems and components required by the TS for which the SF are relocated are still required to be operable, meet the acceptance criteria for the SR, and be capable of performing any mitigation function assumed in the accident analysis. As a result, the consequences of any accident previously evaluated are not significantly increased.

Therefore, the proposed change does not involve a significant increase in the probability or consequences of an accident previously evaluated.

2. Does the proposed amendment create the possibility of a new or different kind of accident from any previously evaluated?

Response: No.

The proposed License Amendment Request is an administrative change. The proposed change relocates the specified [f]requencies for periodic SR to licensee control under the SFCP. No new or different accidents result from utilizing the proposed change. The change does not involve a physical alteration of the plant (i.e., no new or different type of equipment will be installed) or a change in the methods governing normal plant operation. In addition, the change does not impose any new or different requirements. The change does not alter assumptions made in the safety analysis. The proposed change is consistent with the safety analysis assumptions and current plant operating practice.

Therefore, the proposed change does not create the possibility of a new or different kind of accident from any accident previously evaluated.

3. Does the proposed amendment involve a significant reduction in a margin of safety?

Response: No.

The proposed License Amendment Request is an administrative change. The proposed change relocates the specified [f]requencies for periodic SR to licensee control under the SFCP. The design, operation, testing methods, and acceptance criteria for systems, structures, and components, specified in applicable codes and standards (or alternatives approved for use by the NRC) will continue to be met as described in the plant licensing basis (including the Final Safety Analysis Report and Bases to TS), since these are not affected by [relocating] the SF[s]. Similarly, there is no impact to safety analysis acceptance criteria as described in the plant licensing basis.

Therefore, the proposed change does not involve a significant reduction in a margin of safety.

The NRC staff has reviewed the licensee's analysis and, based on this review, it appears that the three standards of 10 CFR 50.92(c) are satisfied. Therefore, the NRC staff proposes to determine that the amendments request involves no significant hazards consideration.

Attorney for licensee: Tamra Domeyer, Associate General Counsel, Exelon Generation Company, LLC, 4300 Winfield Road, Warrenville, IL 60555.

NRC Branch Chief: Travis L. Tate.

Exelon Generation Company, LLC, Docket No. 50-220, Nine Mile Point Nuclear Station, Unit 1, Oswego County, New York

Date of amendment request: March 26, 2015. This Notice is regarding the application dated May 12, 2015, which superseded the application dated March 26, 2015, ADAMS Accession Nos. ML15089A231 and ML15089A233. A publicly-available version is in ADAMS under Accession No. ML15134A232.

Description of amendment request: The NRC staff has previously made a proposed determination that the amendment request dated March 26, 2015, involves no significant hazards consideration (80 FR 58518; September 29, 2015). Subsequently, by application dated May 12, 2015, the licensee superseded the March 26, 2015, amendment request in its entirety. Accordingly, this Notice of the May 12, 2015, application supersedes the previous Notice in its entirety.

This amendment request involves the adoption of approved changes to NUREG-1433, “Standard Technical Specifications [STS] General Electric BWR/4 Plants,” Revision 4.0, to allow relocation of specific Technical Specifications (TS) surveillance frequencies to a licensee-controlled program. The proposed changes are described in Technical Specification Task Force (TSTF) Traveler 425 “Relocate Surveillance Frequencies to Licensee Control—RITSTF [Risk Informed TSTF] Initiative 5b,” Revision 3 (TSTF-425) ADAMS Accession No. ML090850642, and are described in the Notice of Availability published in the FR on July 6, 2009 (74 FR 31996). The proposed changes are consistent with NRC-approved TSTF-425. The proposed changes relocate surveillance frequencies to a licensee-controlled program, the Surveillance Frequency Control Program (SFCP). The changes are applicable to licensees using probabilistic risk guidelines contained in NRC-approved NEI (Nuclear Energy Institute) 04-10, “Risk-Informed Technical Specifications Initiative 5b, Risk-Informed Method for Control of Surveillance Frequencies” (ADAMS Accession No. ML071360456).

Basis for proposed no significant hazards consideration determination: As required by 10 CFR 50.91(a), the licensee has provided its analysis of the issue of no significant hazards consideration, which is presented below:

1. Do the proposed changes involve a significant increase in the probability or consequences of any accident previously evaluated?

Response: No.

The proposed changes relocate the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed changes do not involve a significant increase in the probability or consequences of an accident previously evaluated.

2. Do the proposed changes create the possibility of a new or different kind of accident from any previously evaluated?

Response: No.

No new or different accidents result from utilizing the proposed changes. The changes do not involve a physical alteration of the plant (i.e., no new or different type of equipment will be installed) or a change in the methods governing normal plant operation. In addition, the LAR changes do not impose any new or different requirements. The changes do not alter assumptions made in the safety analysis. The proposed changes are consistent with the safety analysis assumptions and current plant operating practice.

Therefore, the proposed changes do not create the possibility of a new or different kind of accident from any accident previously evaluated.

3. Do the proposed changes involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Exelon will perform a probabilistic risk evaluation using the guidance contained in NRC approved NEI 04-10, Rev. 1, in accordance with the TS SFCP. NEI 04-10, Rev. 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Travis L. Tate.

Exelon Generation Company, LLC, Docket Nos. 50-220 and 50-410, Nine Mile Point Nuclear Station, Units 1 and 2, Oswego County, New York

Date of amendment request: October 8, 2015. A publicly-available version is in ADAMS under Accession No. ML15281A028.

Description of amendment request: The amendments would allow the proposed changes to Nine Mile Point, Unit 1 (NMP1) and Nine Mile Point, Unit 2 (NMP2) TSs to provide an allowance for brief, inadvertent, simultaneous opening of redundant secondary containment personnel access doors during normal entry and exit conditions. Specifically, NMP1 Limiting Condition for Operation (LCO) 3.4.3 and Surveillance Requirement (SR) 4.4.3 are modified to acknowledge that secondary containment access openings may be open for entry and exit. Further, the definition for Reactor Building Integrity, specified in NMP1 TS Definition 1.12, is revised for consistency to reflect the changes proposed to TS Section 3.4.3 LCO and SR 4.4.3. The NMP2 SR 3.6.4.1.3 is modified to acknowledge that secondary containment access openings may be open for entry and exit.

Basis for proposed no significant hazards consideration determination: As required by 10 CFR 50.91(a), the licensee has provided its analysis of the issue of no significant hazards consideration, which is presented below:

1. Do the proposed changes involve a significant increase in the probability or consequences of an accident previously evaluated?

Response: No.

The proposed changes address temporary conditions during which the secondary containment SRs are not met. The secondary containment is not an initiator of any accident previously evaluated. As a result, the probability of any accident previously evaluated is not increased. The consequences of an accident previously evaluated while using the proposed changes are not impacted and are bounded by the existing design bases calculations and analyses. As a result, the consequences of an accident previously evaluated are not significantly increased.

Therefore, the proposed changes do not involve a significant increase in the probability or consequences of an accident previously evaluated.

2. Do the proposed changes create the possibility of a new or different kind of accident from any accident previously evaluated?

Response: No.

The proposed changes do not alter the protection system design, create new failure modes, or change any modes of operation. The proposed changes do not involve a physical alteration of the plant, and no new or different kind of equipment will be installed. Consequently, there are no new initiators that could result in a new or different kind of accident.

Therefore, the proposed changes do not create the possibility of a new or different kind of accident from any accident previously evaluated.

3. Do the proposed changes involve a significant reduction in a margin of safety?

Response: No.

The proposed changes would provide an allowance for brief, inadvertent, simultaneous opening of redundant secondary containment personnel access doors during normal entry and exit conditions. The allowance for both an inner and outer secondary containment access door to be open simultaneously for entry and exit does not affect the safety function of secondary containment as the doors are promptly closed after entry or exit, thereby restoring the secondary containment boundary. In addition, brief, inadvertent, simultaneous opening and closing of redundant secondary containment personnel access doors during entry and exit conditions does not affect the ability of the Emergency Ventilation System (NMP1) or the Standby Gas Treatment (SGT) System (NMP2) to establish the required secondary containment vacuum.

Therefore, the safety function of the secondary containment is not affected.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Travis L. Tate.

Exelon Generation Company, LLC and PSEG Nuclear LLC, Docket Nos. 50-277 and 50-278, Peach Bottom Atomic Power Station, Units 2 and 3, York and Lancaster Counties, Pennsylvania

Date of amendment request: December 15, 2015. A publicly-available version is in ADAMS under Accession No. ML15349A800.

Description of amendment request: The proposed amendments would reduce the reactor steam dome pressure stated in the Technical Specifications (TSs) for the reactor core safety limits. The proposed change addresses a 10 CFR part 21 issue concerning the potential to violate the safety limits during a pressure regulator failure maximum demand (open) (PRFO) transient.

Basis for proposed no significant hazards consideration determination: As required by 10 CFR 50.91(a), the licensee has provided its analysis of the issue of no significant hazards consideration, which is presented below:

1. Does the proposed change involve a significant increase in the probability or consequences of an accident previously evaluated?

Response: No.

The proposed change to the reactor steam dome pressure in Reactor Core Safety Limits 2.1.1.1 and 2.1.1.2 does not alter the use of the analytical methods used to determine the safety limits that have been previously reviewed and approved by the NRC. The proposed change is in accordance with an NRC approved critical power correlation methodology, and as such, maintains required safety margins. The proposed change does not adversely affect accident initiators or precursors, nor does it alter the design assumptions, conditions, or configuration of the facility or the manner in which the plant is operated and maintained.

The proposed change does not alter or prevent the ability of structures, systems, and components (SSCs) from performing their intended function to mitigate the consequences of an initiating event within the assumed acceptance limits. The proposed change does not require any physical change to any plant SSCs nor does it require any change in systems or plant operations. The proposed change is consistent with the safety analysis assumptions and resultant consequences.

Lowering the value of reactor steam dome pressure in the TS has no physical effect on plant equipment and therefore, no impact on the course of plant transients. The change is an analytical exercise to demonstrate the applicability of correlations and methodologies. There are no known operational or safety benefits.

Therefore, the proposed change does not involve a significant increase in the probability or consequences of an accident previously evaluated.

2. Does the proposed change create the possibility of a new or different kind of accident from any accident previously evaluated?

Response: No.

The proposed reduction in the reactor dome pressure safety limit from 785 psig [pounds per square inch gauge] to 685 psig is a change based upon previously approved documents and does not involve changes to the plant hardware or its operating characteristics. As a result, no new failure modes are being introduced. There are no hardware changes nor are there any changes in the method by which any plant systems perform a safety function. No new accident scenarios, failure mechanisms, or limiting single failures are introduced as a result of the proposed change.

The proposed change does not introduce any new accident precursors, nor does it involve any physical plant alterations or changes in the methods governing normal plant operation. Also, the change does not impose any new or different requirements or eliminate any existing requirements. The change does not alter assumptions made in the safety analysis.

Therefore, the proposed change does not create the possibility of a new or different kind of accident from any accident previously evaluated.

3. Does the proposed change involve a significant reduction in a margin of safety?

Response: No.

The margin of safety is established through the design of the plant structures, systems, and components, and through the parameters for safe operation and setpoints for the actuation of equipment relied upon to respond to transients and design basis accidents. Evaluation of the 10 CFR part 21 condition by General Electric determined that since the Minimum Critical Power Ratio improves during the PRFO transient, there is no decrease in the safety margin and therefore there is no threat to fuel cladding integrity. The proposed change in reactor steam dome pressure supports the current safety margin, which protects the fuel cladding integrity during a depressurization transient, but does not change the requirements governing operation or availability of safety equipment assumed to operate to preserve the margin of safety. The change does not alter the behavior of plant equipment, which remains unchanged.

The proposed change to Reactor Core Safety Limits 2.1.1.1 and 2.1.1.2 is consistent with and within the capabilities of the applicable NRC approved critical power correlation for the fuel designs in use at PBAPS Units 2 and 3. No setpoints at which protective actions are initiated are altered by the proposed change. The proposed change does not alter the manner in which the safety limits are determined. This change is consistent with plant design and does not change the TS operability requirements; thus, previously evaluated accidents are not affected by this proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Rd., Warrenville, IL 60555.

NRC Branch Chief: Douglas A. Broaddus.

PSEG Nuclear LLC, Docket Nos. 50-272 and 50-311, Salem Nuclear Generating Station, Unit Nos. 1 and 2, Salem County, New Jersey

Date of amendment request: September 11, 2015, as supplemented by letter dated November 5, 2015. Publicly-available versions are in ADAMS under Accession Nos. ML15254A387 and ML15309A750, respectively.

Description of amendment request: The amendments would revise the technical specifications to support planned plant modifications to implement chiller replacements and for performing maintenance on common line components.

Basis for proposed no significant hazards consideration determination: As required by 10 CFR 50.91(a), the licensee has provided its analysis of the issue of no significant hazards consideration, which is presented below:

1. Do the proposed changes involve a significant increase in the probability or consequences of an accident previously evaluated?

Response: No.

The Auxiliary Building Chilled Water (AB CH) system will continue to meet the design cooling requirements for both normal and accident conditions. The Two chiller and Cross Tied configuration analyses verify the capability of the system to perform its design function. The configuration analyses were performed assuming that one of the required chillers is out of service for the supplying unit to account for a possible failure of a chiller, demonstrating that only the remaining required chillers are required to be operating for normal operation and accident conditions. This supports operating with the required chillers available and the potential loss of a chiller during an accident as the single failure, or the unexpected loss of a chiller during normal operation.

The AB CH system is not an initiator or precursor to any anticipated (or abnormal) operational transients or postulated design basis accidents. Operating with only two chillers required does not alter the design requirements of the system; the required cooling capability is still met. The AB CH systems for Salem Unit 1 and Unit 2 are designed to allow the systems to be cross-tied; allowing for the pumps and chillers of one Unit to cool the heat loads of both Units. In cross-tie configuration the analyses demonstrate the system will continue to provide required cooling capability to the control room and safety related areas during normal operation and in the event of an accident.

Therefore there is no increase in the probability of any previously evaluated accident.

Two Chiller or Cross-Tied operation has no effect on the consequences of any previously analyzed accident. Evaluations were performed assuming that one of the required chillers is out of service to account for a possible failure of a chiller. The two chiller analyses determined that certain heat loads are required to be isolated, certain environmental conditions are required, and that single filtration alignment of the CREACS [Control Room Emergency Air Conditioning System] must be restricted. The cross-tied analyses determined that certain heat loads are required to be isolated, certain environmental conditions are required, and both trains of the CREACS must be in service. The proposed TS changes incorporate these restrictions ensuring the design requirements of the system will continue to be met. The temperatures of the Control Area Rooms continue to be below the acceptance criteria during AB CH system Two Chiller and Cross-Tied operations for both normal operation and accident conditions.

Therefore this proposed change does not involve a significant increase in the probability or consequences of an accident previously evaluated.

2. Do the proposed changes create the possibility of a new or different kind of accident from any accident previously evaluated?

Response: No.

The proposed changes to the TS permitting AB CH system Two Chiller and Cross-Tied operation do not introduce any new accident initiators or create any new failure mechanisms or malfunctions. The analyses demonstrate the system continues to perform its design functions for both normal and accident conditions. To ensure the system has adequate cooling capability, restrictions are placed in TS isolating non-safety related loads, verifying certain environmental conditions, and restricting single filtration train alignment operation. These restrictions do not cause the system to be operated outside its design basis and therefore do not create any new failure mechanisms.

Therefore, the proposed change does not create the possibility of a new or different kind of accident from any previously evaluated.

3. Do the proposed changes involve a significant reduction in a margin of safety?

Response: No.

The proposed amendment does not alter setpoints or limits established or assumed by any accident analyses. The proposed change does not exceed or alter a design basis or safety limit (i.e., Control Room Area temperatures remain below design requirements), therefore it does not significantly reduce the margin of safety. In Two Chiller and Cross-Tied configuration, restrictions are placed in the TS ensuring the AB CH system will continue to provide adequate cooling during normal and accident conditions. The Control Room area ambient air temperature will not exceed the allowable temperature for continuous duty rating for the equipment and instrumentation and the control room will remain habitable for operations personnel during and following all credible accident conditions.

The sharing of the AB CH system between Units in the Cross-Tied configuration does not impair its ability to perform its safety function for both normal and accident conditions. Design cooling requirements for the accident condition unit continue to be met, and the operating unit cooling requirements are also met such that there can be an orderly shutdown and cool down.

Therefore, these changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

PSEG Nuclear LLC, Docket Nos. 50-272 and 50-311, Salem Nuclear Generating Station, Unit Nos. 1 and 2, Salem County, New Jersey

Date of amendment request: October 12, 2015. A publicly-available version is in ADAMS under Accession No. ML15285A014.

Description of amendment request: The amendments would revise the Salem Nuclear Generating Station, Unit Nos. 1 and 2, Technical Specification (TS) 3.6.2.3, “Containment Cooling System,” to correct a discrepancy between TS mode applicability and the shutdown mode in the associated action statements. The request also proposes changes to the Unit Nos. 1 and 2, TS 3.7.1.1, “Safety Valves,” to correct discrepancies between TS mode applicability and action statement shutdown modes.

Basis for proposed no significant hazards consideration determination: As required by 10 CFR 50.91(a), the licensee has provided its analysis of the issue of no significant hazards consideration, which is presented below:

1. Does the proposed amendment involve a significant increase in the probability or consequences of an accident previously evaluated?

Response: No.

Neither the Containment Fan Cooling Units (CFCUs) nor the MSSVs [main steam line code safety valves] are accident initiators. These proposed changes will not increase the probability of occurrence of any design basis accident since the corrections to the affected Technical Specifications, in and of themselves, cannot initiate an accident. Should a previously evaluated accident occur, the proposed changes will ensure that the plant equipment is operable in all required applicable modes of operation and that the Technical Specification action statements are consistent with those applicable modes. There will be no impact on the source term or pathways assumed in accidents previously evaluated. No design functions of structures, systems and components required to mitigate the consequences of an accident are affected. Therefore, the consequences of an accident previously evaluated are not significantly increased.

Therefore, the proposed change does not involve a significant increase in the probability or consequences of an accident previously evaluated.

2. Does the proposed amendment create the possibility of a new or different kind of accident from any accident previously evaluated?

Response: No.

The proposed amendment does not involve physical changes (installing new equipment or modifying existing equipment) related to the design functions or operations of the CFCUs or MSSVs. In addition, the proposed changes to the affected Technical Specification applicability modes and action statement modes will not create the potential for any new initiating events or transients to occur in the physical plant.

Therefore, the proposed changes do not create the possibility of a new or different kind of accident from any previously evaluated.

3. Does the proposed amendment involve a significant reduction in a margin of safety?

Response: No.

The proposed changes, which correct a non-conservative TS and eliminate an inconsistency between applicability mode and action statement, do not exceed or alter a setpoint, design basis or safety limit.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Douglas A. Broaddus.

South Carolina Electric and Gas Company Docket Nos. 52-027 and 52-028, Virgil C. Summer Nuclear Station, Units 2 and 3, Fairfield County, South Carolina

Date of amendment request: September 30, 2015. A publicly-available version is in ADAMS under Accession No. ML15273A115.

Description of amendment request: The proposed change, if approved, would depart from certain plant-specific Tier 1 information by adding two turbine building sump pumps to accommodate the increased flow that will be experienced during condensate polishing system rinsing operations. The proposed change also indicates that there is more than one main turbine building sump. Because flow into the turbine building sumps may be radiologically contaminated, the turbine building sump pumps will cease operation if a high radiation signal is present. The proposed changes to Tier 1 would have corresponding changes to the Combined License (COL) Appendix C, however there are no associated Tier 2 changes required.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to identify that there is more than one turbine building sump and to add two turbine building sump pumps (WWS-MP-07A and B) to [combined license] COL Appendix C, Section 2.3.29, and corresponding Table 2.3.29-1 will provide consistency within the current licensing basis. The main turbine building sumps and sump pumps are not safety-related components and do not interface with any systems, structures, or components (SSC) accident initiator or initiating sequence of events; thus, the probability of accidents evaluated within the plant-specific [Updated Final Safety Analysis Report] UFSAR are not affected. The proposed changes do not involve a change to the predicted radiological releases due to accident conditions, thus the consequences of accidents evaluated in the UFSAR are not affected.

Therefore, the proposed amendment does not involve a significant increase in the probability or consequences of an accident previously evaluated.

2. Does the proposed amendment create the possibility of a new or different kind of accident from any accident previously evaluated?

Response: No.

The proposed changes to identify that there is more than one turbine building sump and to add two turbine sump pumps to the non-safety waste water system (WWS) do not affect any safety-related equipment, nor does it add any new interface to safety-related SSCs. No system or design function or equipment qualification is affected by this change. The changes do not introduce a new failure mode, malfunction, or sequence of events that could affect safety or safety-related equipment.

Therefore, the proposed amendment does not create the possibility of a new or different kind of accident.

3. Does the proposed amendment involve a significant reduction in a margin of safety?

Response: No.

The WWS is a non-safety-related system that does not interface with any safety-related equipment. The proposed changes to identify that there is more than one turbine building sump and to add two turbine building sump pumps do not affect any design code, function, design analysis, safety analysis input or result, or design/safety margin. No safety analysis or design basis acceptance limit/criterion is challenged or exceeded by the proposed change.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

Tennessee Valley Authority (TVA), Docket Nos. 50-259, 50-260, and 50-296, Browns Ferry Nuclear Plant, Units (BFN) 1, 2, and 3, Limestone County, Alabama

Date of amendment request: September 16, 2015 (ADAMS Accession No. ML15260B125).

Description of amendment request: The amendments would revise the Technical Specifications (TSs) for Units 1 and 2, by adding a new Specification (i.e., TS 3.3.8.3) to consolidate the requirements governing the safety functions for the Emergency Core Cooling System (ECCS) Preferred Pump Logic, Common Accident Signal (CAS) Logic, and the Unit Priority Re-Trip Logic and for Unit 3, by adding a new Specification (i.e., TS 3.3.8.3) to consolidate the requirements governing the safety functions for the CAS Logic, and the Unit Priority Re-Trip Logic for consistency with the changes to the, Units 1 and 2 TSs. The proposed change would relocate the existing requirements for the CAS Logic from Units 1, 2, and 3, TS 3.8.1, “AC Sources—Operating,” to the proposed TS 3.3.8.3. In addition, TS 3.3.5.1, Table 3.3.5.1-1, “Emergency Core Cooling System Instrumentation,” would be revised to incorporate references to the proposed TS 3.3.8.3.

Basis for proposed no significant hazards consideration determination: As required by 10 CFR 50.91(a), the licensee has provided its analysis of the issue of no significant hazards consideration, which is presented below:

1. Does the proposed change involve a significant increase in the probability or consequences of an accident previously evaluated?

Response: No.

The proposed changes relocate and clarify the requirements currently addressed in the BFN TS governing the safety functions for the ECCS Preferred Pump Logic (BFN, Units 1 and 2 only), Common Accident Signal Logic, and the Unit Priority Re-Trip Logic. Requirements are neither added nor deleted. The proposed TS 3.3.8.3 continues to provide LCO [Limiting Condition for Operation], Required Actions and Completion Times, and Surveillance Requirements for ECCS Preferred Pump Logic (BFN, Units 1 and 2 only), Common Accident Signal Logic, and the Unit Priority Re-Trip Logic. A TVA risk assessment has determined that the risk of changing the Completion Time for the ECCS Preferred Pump Logic from 24 hours to seven days, and maintaining the current Surveillance Test Intervals as the current Surveillance Test Interval for the rest of the ECCS Instrumentation in the technical specifications is acceptable. Because the proposed changes do not require modification of the plant or change the way the logic systems are used, the proposed changes do not affect the current LOCA [loss-of-coolant accident] analysis of record.

Based on the above discussions, the proposed changes do not involve an increase in the probability or consequences of an accident previously evaluated.

2. Does the proposed change create the possibility of a new or different kind of accident from any accident previously evaluated?

Response: No.

The proposed changes relocate and clarify the requirements currently addressed in the BFN TS governing the safety functions for the ECCS Preferred Pump Logic (BFN, Units 1 and 2 only), Common Accident Signal Logic, and the Unit Priority Re-Trip Logic. Requirements are neither added nor deleted. The proposed TS 3.3.8.3 continues to provide LCO, Required Actions and Completion Times, and Surveillance Requirements for ECCS Preferred Pump Logic (BFN, Units 1 and 2 only), Common Accident Signal Logic, and the Unit Priority Re-Trip Logic. The proposed changes result in no physical change to the plant configuration or method of operation.

Therefore, the proposed changes do not create the possibility of a new or different kind of accident from any accident previously evaluated.

3. Does the proposed change involve a significant reduction in a margin of safety?

Response: No.

The proposed changes relocate and clarify the requirements currently addressed in the BFN TS governing the safety functions for the ECCS Preferred Pump Logic (BFN, Units 1 and 2 only), Common Accident Signal Logic, and the Unit Priority Re-Trip Logic. Requirements are neither added nor deleted. The proposed TS 3.3.8.3 continues to provide LCO, Required Actions and Completion Times, and Surveillance Requirements for ECCS Preferred Pump Logic (BFN, Units 1 and 2 only), Common Accident Signal Logic, and the Unit Priority Re-Trip Logic. A TVA risk assessment has determined that the risk of changing the Completion Time for the ECCS Preferred Pump Logic from 24 hours to seven days, and maintaining the current Surveillance Test Intervals as the current Surveillance Test Interval for the rest of the ECCS Instrumentation in the technical specifications is acceptable.

Accordingly, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Benjamin G. Beasley.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket Nos. 50-237 and 50-249, Dresden Nuclear Power Station (DNPS), Units 2 and 3, Grundy County, Illinois

Date of amendment request: December 30, 2014, as supplemented by letters dated May 8, and July 30, 2015. Publicly-available versions are in ADAMS under Accession Nos. ML14364A100, ML15128A305, and ML15215A336, respectively.

Brief description of amendment request: The NRC is considering issuance of an amendment to Facility Operating License Nos. DPR-19 and DPR-25, issued to Exelon Generation Company, LLC (the licensee), for operation of DNPS, Units 2 and 3. The proposed amendment uses a new Criticality Safety Analysis (CSA) methodology for performing the criticality safety evaluation for legacy fuel types in addition to the new ATRIUM 10XM fuel design in the DNPS spent fuel pools. In addition, the licensee's amendment request proposes a change to the DNPS Technical Specification (TS) 4.3.1, “Criticality,” in support of the new CSA.

Date of publication of individual notice in Federal Register: November 5, 2015 (80 FR 68573).

Expiration date of individual notice: December 7, 2015 (public comments); January 5, 2015 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Florida, Inc. and Seminole Electric Cooperative, Inc., Docket No. 50-302, Crystal River, Unit 3 Nuclear Generating Plant, Citrus County, Florida

Date of application for amendment: May 7, 2015.

Brief description of amendment: The amendment revised Technical Specifications 5.1.1, 5.2.1.b, 5.3.2, and 5.6.2.3 by changing the title of the position with overall responsibility for the safe handling and storage of nuclear fuel and licensee initiated changes to the Offsite Dose Calculation Manual from either the Plant Manager or the Decommissioning Director to the General Manager Decommissioning.

Date of issuance: November 27, 2015.

Effective date: As of the date of its issuance and shall be implemented within 30 days of issuance.

Amendment No.: 249. A publicly-available version is in ADAMS under Accession No. ML15261A452; documents related to this amendment are listed in the Safety Evaluation enclosed with the amendment.

Facility Operating License No. DPR-72: Amendment revised the Facility Operating License and Technical Specifications.

Date of initial notice in Federal Register: July 21, 2015 (80 FR 43127).

The Commission's related evaluation of the amendment is contained in a Safety Evaluation dated August 11, 2015.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: December 15, 2014 as supplemented by letters dated May 6, October 12, November 6, and November 24, 2015.

Brief description of amendment: The amendment modified Surveillance Requirement (SR) 3.6.4.3.1 of TS 3.6.4.3, “Standby Gas Treatment (SBT) System”; SR 3.7.3.1 of TS 3.7.3 “Control Room Fresh Air (CRFA) System”; and TS 5.5.7, “Ventilation Filter Testing Program (VFTP).” The changes to SRs 3.6.4.3.1 and 3.7.3.1 are consistent with the adoption of Technical Specifications Task Force (TSTF) Standard Technical Specification (STS) Traveler TSTF-522, “Revise Ventilation System Surveillance Requirements to Operate for 10 hours per Month.” Additionally, the change to TS 5.5.7 provided consistency with the above TS changes that was not addressed in TSTF-522.

Date of issuance: December 17, 2015.

Effective date: As of the date of issuance and shall be implemented within 90 days of issuance.

Amendment No: 208. A publicly-available version is in ADAMS under Accession No. ML15336A256; documents related to this amendment are listed in the Safety Evaluation enclosed with the amendment.

Facility Operating License No. NPF-29: The amendment revised the Facility Operating License and Technical Specifications.

Date of initial notice in Federal Register: April 28, 2015 (80 FR 23603). The supplemental letters dated May 6, October 12, November 6, and November 24, 2015, provided additional information that clarified the application, did not expand the scope of the application as originally noticed, and did not change the staff's original proposed no significant hazards consideration determination as published in the Federal Register.

The Commission's related evaluation of the amendment is contained in a Safety Evaluation dated December 17, 2015.

No significant hazards consideration comments received: No.

Entergy Nuclear Vermont Yankee, LLC and Entergy Nuclear Operations, Inc., Docket No. 50-271, Vermont Yankee Nuclear Power Station (VY), Vernon, Vermont

Date of amendment request: June 12, 2014, as supplemented by letters dated October 21, 2014; February 5, 2015; June 18, 2015; and July 16, 2015.

Brief description of amendment: The amendment revised the permanently defueled emergency plan and emergency action level (EAL) scheme to reflect the reduced scope of offsite and onsite emergency planning and the significantly reduced spectrum of credible accidents that can occur for the permanently defueled condition.

Date of issuance: December 11, 2015.

Effective date: As of April 15, 2016, and shall be implemented within 90 days of the amendment effective date.

Amendment No.: 264. A publicly-available version is in ADAMS under Accession No. ML15233A166; documents related to this amendment are listed in the Safety Evaluation enclosed with the amendment.

Renewed Facility Operating License No. DPR-28: The amendment revised the VY permanently defueled emergency plan and EAL scheme.

Date of initial notice in Federal Register: December 9, 2014 (79 FR 73109). The supplemental letters dated October 21, 2014; February 5, 2015; June 18, 2015; and July 16, 2015, provided additional information that clarified the application, did not expand the scope of the application as originally noticed, and did not change the staff's original proposed no significant hazards consideration determination as published in the Federal Register.

The Commission's related evaluation of this amendment is contained in a Safety Evaluation dated December 11, 2015.

No significant hazards consideration comments received: Yes. The Safety Evaluation dated December 11, 2015, provides the discussion of the comments received from the State of Vermont and the public.

Exelon Generation Company, LLC, Docket Nos. STN 50-456 and STN 50-457, Braidwood Station, Units 1 and 2, Will County, Illinois

Docket Nos. STN 50-454 and STN 50-455, Byron Station, Unit Nos. 1 and 2, Ogle County, Illinois

Date of application for amendment: December 14, 2014, as supplemented by letters dated June 25, and September 16, 2015.

Brief description of amendment: The changes increase the voltage limit for the diesel generator full load rejection test specified by technical specification (TS) and surveillance requirement (SR) 3.8.1.10. Additionally, the proposed amendment adds Note 3 to TS SR 3.8.1.10 that allows for full load reject testing.

Date of issuance: December 17, 2015.

Effective date: As of the date of issuance and shall be implemented within 90 days from the date of issuance.

Amendment No(s).: 187/187, and 194/194. A publicly-available version is in ADAMS under Accession No. ML15293A589. Documents related to these amendments are listed in the Safety Evaluation enclosed with the amendments.

Facility Operating License Nos.NPF-72 and NPF-77 and Renewed Facility Operating License Nos. NPF-37 and NPF-66: The amendments revise the TSs and License.

Date of initial notice in Federal Register: March 17, 2015 (80 FR 13907). The June 25, and September 16, 2015, supplements contained clarifying information and did not change the scope of the proposed action or affect the NRC staff's initial proposed finding of no significant hazards consideration.

The Commission's related evaluation of the amendments is contained in a Safety Evaluation dated December 17, 2015.

No significant hazards consideration comments received: No.

Exelon Generation Company, LLC, Docket No. 50-461, Clinton Power Station, Unit 1, DeWitt County, Illinois

Date of application for amendment: November 17, 2014, as supplemented by letters dated April 21, June 24, and November 16, 2015.

Brief description of amendment: The amendment revises Technical Specification (TS) 5.5.2, “Primary Coolant Sources Outside Containment,” The approved change requires integrated leak testing to be performed at least once per 24 months and adds a provision to apply surveillance requirement 3.0.2 to TS 5.5.2 requirements.

Date of issuance: December 18, 2015.

Effective date: As of the date of issuance and shall be implemented within 30 days from the date of issuance.

Amendment No: 208. A publicly-available version is in ADAMS under Accession No. ML15251A584; documents related to this amendment are listed in the Safety Evaluation enclosed with the amendment.

Facility Operating License No. NPF-62: The amendment revised the Technical Specifications and License.

Date of initial notice in Federal Register: February 17, 2015 (80 FR 8361). The April 21, 2015 supplement, contained clarifying information, which changed the NRC staff's initial proposed finding that the amendments involve no significant hazards consideration, therefore the notice was later supplemented on May 12, 2015 (80 FR 27197). The June 24, and November 16, 2015 supplements did not affect the revised no significant hazards consideration.

The Commission's related evaluation of the amendment is contained in a Safety Evaluation dated December 18, 2015.

No significant hazards consideration comments received: No.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of application for amendment: April 24, 2014, as supplemented by letters dated April 30, 2015, and October 9, 2015.

Brief description of amendment: The amendments add new low degraded voltage relays and timers, with appropriate settings, on each engineered safety features bus. The technical specifications and surveillance requirements are changed to add appropriate operational and testing requirements for the new relays and timers.

Date of issuance: December 21, 2015.

Effective date: As of the date of issuance and shall be implemented during subsequent refueling outages as specified in the amendments.

Amendment No(s).: 188/188 and 195/195. A publicly-available version is in ADAMS under Accession No. ML15307A776. Documents related to these amendments are listed in the Safety Evaluation enclosed with the amendments.

Facility Operating License Nos.NPF-72 and NPF-77 and Renewed Facility Operating License Nos. NPF-37 and NPF-66: The amendments revises the Technical Specifications and License.

Date of initial notice in Federal Register: September 2, 2014 (79 FR 52065).

The April 30, 2015, and October 9, 2015, supplements contained clarifying information and did not change the NRC staff's original proposed no significant hazards consideration determination as published in the Federal Register.

The Commission's related evaluation of the amendment is contained in a Safety Evaluation dated December 21, 2015.

No significant hazards consideration comments received: No.

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of application for amendments: December 22, 2014, as supplemented by letter dated September 29, 2015.

Brief description of amendments: The amendments add a new Technical Specification (TS) 3.10.8, “Inservice Leak and Hydrostatic Testing,” to allow reactor operations to remain in Mode 4 for specified testing with reactor coolant temperatures above the Mode 4 limit. TS 3.10.8 may only be used for (1) performance of an inservice leak or hydrostatic test, (2) as a consequence of maintaining adequate pressure for an inservice leak or hydrostatic test, or (3) as a consequence of maintaining adequate pressure for control rod scram time testing initiated in conjunction with an inservice leak or hydrostatic test.

Date of issuance: December 17, 2015.

Effective date: As of the date of issuance and shall be implemented within 60 days from the date of issuance.

Amendment Nos.: 248, 241, 219, 205, 261, and 256. Publicly-available versions can be found in ADAMS under Accession No. ML15324A439; documents related to these amendments are listed in the Safety Evaluation enclosed with the amendments.

Facility Operating License Nos. DPR-19, DPR-25, NPF-11, NPF-18, DPR-29, and DPR-30: The amendments revised the Technical Specifications and the Licenses.

Date of initial notice in Federal Register: March 31, 2015 (80 FR 17089). The supplemental letter dated September 29, 2015, provided additional information that clarified the application, did not expand the scope of the application as originally noticed, and did not change the staff's original proposed no significant hazards consideration determination as published in the Federal Register.

The Commission's related evaluation of the amendments is contained in a Safety Evaluation dated December 17, 2015.

No significant hazards consideration comments received: No.

FirstEnergy Nuclear Operating Company, et al., Docket Nos. 50-334 and 50-412, Beaver Valley Power Station, Unit Nos. 1 and 2 (BVPS-1 and BVPS-2), Beaver County, Pennsylvania

Date of amendment request: April 1, 2015, as supplemented by letter dated August 10, 2015.

Brief description of amendments: The amendments revised the BVPS-1 and BVPS-2 Renewed Facility Operating Licenses (RFOLs) and Technical Specifications (TSs). Specifically, the license amendments revised various sections associated with steam generators, including changes consistent with the guidance provided in Technical Specification Task Force Traveler-510, Revision 2, “Revision to Steam Generator Program Inspection Frequencies and Tube Sample Selection” (ADAMS Accession No. ML110610350).

Date of issuance: December 16, 2015.

Effective date: As of the date of issuance and shall be implemented within 60 days of issuance.

Amendment Nos.: 296 (Unit 1) and 184 (Unit 2). A publicly-available version is in ADAMS under Accession No. ML15294A439; documents related to these amendments are listed in the Safety Evaluation (SE) enclosed with the amendments.

RFOL Nos. DPR-66 and NPF-73: Amendments revised the RFOLs and TSs.

Date of initial notice in Federal Register: May 12, 2015 (80 FR 27198). The supplemental letter dated August 10, 2015, provided additional information that clarified the application, did not expand the scope of the application as originally noticed, and did not change the staff's original proposed no significant hazards consideration determination as published in the Federal Register.

The Commission's related evaluation of the amendment is contained in an SE dated December 16, 2015.

No significant hazards consideration comments received: No.

Indiana Michigan Power Company, Docket Nos. 50-315 and 50-316, Donald C. Cook Nuclear Plant, Units 1 and 2, Berrien County, Michigan

Date of amendment request: December 17, 2014, as supplemented by letters dated July 9, 2015, and October 30, 2015.

Brief description of amendments: The amendments revise the Donald C. Cook Nuclear Plant, Units 1 and 2, technical specifications to allow surveillance testing of the onsite standby emergency diesel generators during modes in which it was previously restricted. Specifically, the changes remove the mode restrictions in the notes of the surveillance requirements 3.8.1.10, EDG single largest load rejection test, 3.8.1.11, EDG full load rejection test, and 3.8.1.15, EDG endurance run.

Date of issuance: December 11, 2015.

Effective date: These amendments are effective as of the date of issuance and shall be implemented within 140 days of issuance.

Amendment No(s).: 330 for Unit 1 and 311 for Unit 2. A publicly-available version is in ADAMS under Accession No. ML15327A217; documents related to this amendment are listed in the Safety Evaluation enclosed with the amendment.

Renewed Facility Operating License Nos. DPR-58 and DPR-74: The amendments revise the Renewed Facility Operating Licenses and the Technical Specifications.

Date of initial notice in Federal Register: March 17, 2015 (80 FR 13909). The supplemental letters dated July 9, 2015, and October 30, 2015, provided additional information that clarified the application, did not expand the scope of the application as originally noticed, and did not change the staff's original proposed no significant hazards consideration determination as published in the Federal Register.

The Commission's related evaluation of the amendment is contained in a Safety Evaluation dated December 11, 2015.

No significant hazards consideration comments received: No.

Omaha Public Power District, Docket No. 50-285, Fort Calhoun Station, Unit No. 1, Washington County, Nebraska

Date of amendment request: December 26, 2014, as supplemented by letters dated September 11, September 18, November 2, and December 8, 2015.

Brief description of amendment: The amendment revised the current emergency action level scheme to a scheme based on Nuclear Energy Institute (NEI) 99-01, Revision 6, “Development of Emergency Action Levels for Non-Passive Reactors,” November 2012.

Date of issuance: December 15, 2015.

Effective date: As of the date of issuance and shall be implemented by June 30, 2016.

Amendment No.: 285. A publicly-available version is in ADAMS under Accession No. ML15288A005; documents related to this amendment are listed in the Safety Evaluation enclosed with the amendment.

Renewed Facility Operating License No. DPR-40: The amendment revised the operating license.

Date of initial notice in Federal Register: February 3, 2015 (80 FR 5801). The supplemental letters dated September 11, September 18, November 2, and December 8, 2015, provided additional information that clarified the application, did not expand the scope of the application as originally noticed, and did not change the staff's original proposed no significant hazards consideration determination as published in the Federal Register.

The Commission's related evaluation of the amendment is contained in a Safety Evaluation dated December 15, 2015.

No significant hazards consideration comments received: No.

Tennessee Valley Authority, Docket Nos. 50-259, 50-260, and 50-296, Browns Ferry Nuclear Plant, Units 1, 2 and 3, Limestone County, Alabama

Date of amendment request: December 11, 2014, as supplemented by letter dated September 30, 2015.

Brief description of amendments: The amendments revised the stored diesel fuel oil and lube oil numerical volume requirements in the Technical Specifications (TSs) by replacing them with diesel operating time requirements consistent with Technical Specifications Task Force Traveler-501, Revision 1, “Relocate Stored Fuel Oil and Lube Oil Volume Values to Licensee Control.”

Date of issuance: December 14, 2015.

Effective date: As of the date of issuance and shall be implemented within 60 days of issuance.

Amendment No(s).: 292 (Unit 1), 317 (Unit 2), and 275 (Unit 3). A publicly-available version is in ADAMS under Accession No. ML15324A247; documents related to these amendments are listed in the Safety Evaluation enclosed with the amendments.

Renewed Facility Operating License Nos. DPR-33, DPR-52, and DPR-68: Amendments revised the Renewed Facility Operating Licenses and TSs.

Date of initial notice in Federal Register: March 31, 2015 (80 FR 17104). The supplemental letter dated September 30, 2015, provided additional information that clarified the application, did not expand the scope of the application as originally noticed, and did not change the staff's original proposed no significant hazards consideration determination as published in the Federal Register.

The Commission's related evaluation of the amendment is contained in a Safety Evaluation dated December 14, 2015.

No significant hazards consideration comments received: A comment was received on the initial Federal Register notice regarding a Grand Gulf amendment, but the comment was unrelated to this licensing action.

Tennessee Valley Authority, Docket Nos. 50-259, 50-260, and 50-296, Browns Ferry Nuclear Plant, Units 1, 2, and 3, Limestone County, Alabama

Date of amendment request: December 11, 2014, as supplemented by letters dated June 3, 2015, and July 30, 2015.

Brief description of amendment: The amendments revised Technical Specification (TS) 2.1.1, “Reactor Core SLs [Safety Limits],” to lower the value of the reactor steam dome pressure safety limit from the current 785 pounds per square inch gauge (psig) to 585 psig. Lowering of this safety limit will effectively expand the validity range for the units' critical power correlations and the calculation of the minimum critical power ratio. Specifically, the revised value of 585 psig is consistent with the lower range of the critical power correlations currently in use at the units. The revised value will also adequately bound a pressure regulator failure open transient event. No hardware, design or operational change is involved with this amendment.

Date of issuance: December 16, 2015.

Effective date: As of its date of issuance and shall be implemented within 60 days.

Amendment Nos.: 293 (Unit 1), 318 (Unit 2), and 276 (Unit 3). A publicly-available version is in ADAMS under Accession No. ML15287A213; documents related to these amendments are listed in the Safety Evaluation (SE) enclosed with the amendments.

Renewed Facility Operating License Nos. DPR-33, DPR-52, and DPR-68: Amendments revised the Renewed Facility Operating Licenses and TSs.

Date of initial notice in Federal Register: May 5, 2015 (80 FR 25721). The supplemental letters dated June 3, 2015, and July 30, 2015, provided additional information that clarified the application, did not expand the scope of the application as originally noticed, and did not change the staff's original proposed no significant hazards consideration determination as published in the Federal Register.

The Commission's related evaluation of the amendment is contained in an SE dated December 16, 2015.

No significant hazards consideration comments received: Yes. The comment received on Amendment Nos. 293, 318, and 276 is addressed in the SE dated December 16, 2015.

V. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave To Intervene

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by March 7, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by March 7, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

STP Nuclear Operating Company, Docket No. 50-498, South Texas Project, Unit 1, Matagorda County, Texas

Date of amendment request: December 3, 2015, as supplemented by letter dated December 9, 2015.

Brief description of amendment: The amendment added a footnote to Technical Specification (TS) 5.3.2, “Control Rod Assemblies,” to permit operation with 56 full-length control rods during Unit 1 Cycle 20 instead of the normal 57 full-length control rod assemblies. This extension will allow completion of plans to repair or replace a single unreliable control rod. This amendment was necessitated by the discovery of the unreliable control rod during start up testing following the recently completed Unit 1 refueling outage.

Date of issuance: December 11, 2015.

Effective date: As of the date of issuance and shall be implemented within 24 hours of its date of issuance.

Amendment No.: Unit 1—208. A publicly-available version is in ADAMS under Accession No. ML15343A128; documents related to this amendment are listed in the Safety Evaluation enclosed with the amendment.

Facility Operating License No. NPF-76: The amendment revised the Facility Operating License and TSs.

Public comments requested as to proposed no significant hazards consideration (NSHC): No.

The Commission's related evaluation of the amendment, finding of emergency circumstances, state consultation, and final NSHC determination are contained in a Safety Evaluation dated December 11, 2015.

Attorney for licensee: Steve Frantz, Esq., Morgan, Lewis & Bockius, 1111 Pennsylvania Avenue NW., Washington, DC 20004.

NRC Branch Chief: Robert J. Pascarelli.

Dated at Rockville, Maryland, this 29th day of December, 2015.
For the Nuclear Regulatory Commission.
Anne T. Boland,
Director, Division of Operating Reactor Licensing, Office of Nuclear Reactor Regulation.

[FR Doc. 2015-33260 Filed 1-4-16; 8:45 am]

BILLING CODE 7590-01-P